COMMITTEE FOR THE IMPLEMENTATION OF TEXTILE AGREEMENTS

Exemption for Certain Textile and Apparel Articles from Designated Caribbean Basin Trade Partnership Act Beneficiary Countries from Existing Quota, Guaranteed Access Levels (GALs), Visa and GAL Certification Requirements

October 30, 2000.

AGENCY: Committee for the Implementation of Textile Agreements (CITA).

ACTION: Issuing a directive to the Commissioner of Customs exempting certain textile and apparel articles from quota, Guaranteed Access Levels (GALs), visa and GAL certification requirements.

EFFECTIVE DATE: October 2, 2000.

FOR FURTHER INFORMATION CONTACT: Naomi Freeman, International Trade Specialist, Office of Textiles and Apparel, U.S. Department of Commerce, (202) 482-4212.

SUPPLEMENTARY INFORMATION:

Authority: Section 211 of the Trade and Development Act of 2000 (19 U.S.C. 2703); Presidential Proclamation 7351 of October 2, 2000; Section 204 of the Agricultural Act of 1956, as amended (7 U.S.C. 1854); Executive Order 11651 of March 3, 1972, as amended.

Section 211 of the Trade and Development Act of 2000 provides duty and quota-free treatment for certain textile and apparel articles imported from designated Caribbean Basin Trade Partnership Act (CBTPA) beneficiary countries. On October 2, 2000, the President designated Costa Rica, Dominican Republic, El Salvador, Guatemala, Haiti, Jamaica and Panama, among others, as CBTPA beneficiary countries (Proclamation 7351, 65 FR 59329, published on October 4, 2000).

Effective October 2, 2000, the U.S. Trade Representative determined that these countries, among others, have implemented and follow, or are making substantial progress towards implementing and following, the customs procedures required by the CBTPA, and the U.S. Trade Representative amended the Harmonized Tariff Schedule of the United States (HTS) to provide the tariff treatment authorized under the CBTPA for goods from these countries (65 FR 60236, published on October 10, 2000).

The CBTPA provides that textile and apparel articles that qualify for CBTPA benefits shall enter the United States free of duty and free of any quantitative restriction, limitation, or consultation level. Therefore, CITA directs the U.S. Customs Service no longer to impose specific limits on textile and apparel articles from Costa Rica, Dominican Republic, El Salvador, Guatemala, Haiti, Jamaica and Panama that qualify for preferential treatment under Section 211 of the Trade and Development Act of 2000, and no longer to impose Guaranteed Access Levels (GALs), visa and GAL certification requirements for these articles.

Benefits under Section 211 for certain knit apparel from all beneficiary countries are limited in each of the one-year periods, beginning on October 1, 2000 and ending on September 30, 2008 (19 U.S.C. 2703(b)(2)(A)(iii)(I, II). Similarly, benefits under this provision for t-shirts are also limited during this period (19 U.S.C. 2703(b)(2)(A)(iii)(III, IV). Applicable quota and visa requirements will apply to imports in excess of each of the one-year limits.

D. Michael Hutchinson,
Acting Chairman, Committee for the Implementation of Textile Agreements.

Committee for the Implementation of Textile Agreements

October 30, 2000.

Commissioner of Customs

Department of the Treasury, Washington, D.C. 20229

Dear Commissioner:

This directive exempts from otherwise applicable quota, Guaranteed Access Levels (GALs), visa and GAL certification requirements certain textile and apparel articles, produced or manufactured in Costa Rica, Dominican Republic, El Salvador, Guatemala, Haiti, Jamaica, and Panama, and exported to the United States.

Effective on October 2, 2000, textile and apparel articles, imported from Costa Rica, Dominican Republic, El Salvador, Guatemala, Haiti, Jamaica or Panama, qualifying for duty and quota-free treatment under Section 211 of the Trade and Development Act of 2000, are not subject to otherwise applicable quota, GALs, visa or GAL certification requirements.

Benefits under Section 211 for certain knit apparel from all beneficiary countries are limited in each of the one-year periods, beginning on October 1, 2000 and ending on September 30, 2008. (19 U.S.C. 2703(b)(2)(A)(iii)(I, II) Similarly, benefits under this provision for t-shirts are also limited during this period. (19 U.S.C. 2703(b)(2)(A)(iii)(III, IV) Applicable quota and visa requirements will apply to imports in excess of each of the one-year limits.

The Committee for the Implementation of Textile Agreements has determined that these actions fall within the foreign affairs exception to the rulemaking provisions of 5 U.S.C. 553(a)(1).

Sincerely,

D. Michael Hutchinson,

Acting Chairman, Committee for the Implementation of Textile Agreements.

[FR Doc. 00-28134 Filed 10-30-00; 11:58 am]

BILLING CODE 3510-DR-F